DEPARTMENT OF DEFENSE

Office of the Secretary

TRICARE Access to Care Demonstration Project

AGENCY: Department of Defense.

ACTION: Notice of Extension of the TRICARE South Region United States Coast Guard Access to Care Demonstration for TRICARE Prime/TRICARE Prime Remote Beneficiaries.

SUMMARY: This notice is to advise interested parties of a 2-year extension of the demonstration project in which the Department of Defense evaluates allowing United States Coast Guard (USCG) TRICARE Prime/TRICARE Prime Remote to utilize four visits per fiscal year to TRICARE authorized Urgent Care Centers without obtaining an authorization from their Primary Care Manager or an authorized Health Care Finder. The Department will continue to evaluate the costs/benefits and beneficiary satisfaction of providing Prime enrolled USCG Active Duty members and their families quick, hassle free options for obtaining acute/urgent care at a lower cost diverting visits from the more expensive utilization of Emergency Rooms.

DATES: This demonstration project will continue through May 4, 2015.

ADDRESSES: TRICARE Management Activity, Health Plan Operations, 7700 Arlington Boulevard, Suite 5101, Falls Church, VA 22041.

FOR FURTHER INFORMATION CONTACT: For questions pertaining to this demonstration project, please contact Ms. Shane Pham at (703) 681-0039.

Dated: April 11, 2013.
Aaron Siegel,
Alternate OSD Federal Register Liaison Officer, Department of Defense.

[FR Doc. 2013-08856 Filed 4-15-13; 8:45 am]

BILLING CODE 5001-06-P